DEPARTMENT OF JUSTICE

Notice of Lodging of Proposed Consent Decree Under the Oil Pollution Act

On September 21, 2016, a proposed consent decree was lodged with the United States District Court for the District of Montana in the lawsuit entitled United States and the State of Montana. v. ExxonMobil Pipeline Company, Civil Action No. 1:16-cv-00143-SPW-CSO.

The United States and the State of Montana filed this lawsuit against ExxonMobil Pipeline Company (“ExxonMobil”) pursuant to the Oil Pollution Act, 33 U.S.C. 2701-2762, and state law. The United States' and State of Montana's complaint seeks to recover damages for injury to, destruction of, loss of, or loss of use of natural resources resulting from the discharge of oil from the ExxonMobil's Silvertip Pipeline into the Yellowstone River near Laurel, Montana on or about July 1, 2011. The proposed consent decree requires ExxonMobil to pay $12,000,000 to resolve the United States' and the State of Montana's claim for natural resource damages.

The publication of this notice opens a period for public comment on the consent decree. Comments should be addressed to the Assistant Attorney General, Environment and Natural Resources Division, and should refer to United States and the State of Montana v. ExxonMobil Pipeline Company, D.J. Ref. No. 90-5-1-1-10332. All comments must be submitted no later than thirty (30) days after the publication date of this notice. Comments may be submitted either by email or by mail in the following manner:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $7.25 (25 cents per page reproduction cost) payable to the United States Treasury.

For informational purposes, the Justice Department notes that the Department of the Interior and the State of Montana have prepared a related draft Restoration Plan. The public may review the plan at https://dojmt.gov/lands/yellowstone-river-oil-spill-July-2011/, by email at NRDP@mt.gov with “Yellowstone restoration plan comment” in the subject line, in person at Montana Natural Resource Damage Program, 1720 9th Avenue, Helena, MT 59620-1425, or by mail by sending a request to Montana Natural Resource Damage Program, P.O. Box 201425, Helena, MT 59620-1425. Comments on the draft restoration plan should be sent to the Montana Natural Resource Damage Program at the addresses listed above or provided orally at an October 12, 2016 public meeting. All comments on the Restoration Plan must be submitted no later than October 31, 2016.

Robert Brook,
Assistant Chief, Environmental Enforcement Section, Environment and Natural Resources Division.

[FR Doc. 2016-23309 Filed 9-27-16; 8:45 am]

BILLING CODE 4410-15-P